FEDERAL DEPOSIT INSURANCE CORPORATION

Agency Information Collection Activities: Proposed Collection Renewals; Comment Request (3064-0019, -0061, -0087 & -0143)

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995. Currently, the FDIC is soliciting comment on renewal of the information collections described below.

DATES: Comments must be submitted on or before April 10, 2017.

ADDRESSES: Interested parties are invited to submit written comments to the FDIC by any of the following methods:

• http://www.FDIC.gov/regulations/laws/federal/notices.html.

• Email: comments@fdic.gov. Include the name and number of the collection in the subject line of the message.

• Mail: Jennifer Jones (202-898-6768), Counsel, MB-3105, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Jennifer Jones, at the FDIC address above.

SUPPLEMENTARY INFORMATION:

Proposal to renew the following currently approved collections of information:

1. Title: Interagency Notice of Change in Control.

OMB Number: 3064-0019.

Form Number: FDIC 6822/01.

Affected Public: Insured state nonmember banks and state savings associations.

Burden Estimate:

| Type of burden | Estimated number of respondents | Estimated time per response | Frequency of response | Total annual estimated burden (hours)
Notice of Change in Control | Reporting | 25 | 30 | On Occasion | 750

General Description of Collection: The Interagency Notice of Change in Control is submitted by any person proposing to acquire ownership control of an insured state nonmember bank. The information is used by the FDIC to determine whether the competence, experience, or integrity of any acquiring person indicates it would not be in the interest of the depositors of the bank, or in the public interest, to permit such persons to control the bank.

2. Title: Foreign Banking and Investment by Insured State Nonmember Banks.

OMB Number: 3064-0061.

Form Number: Summary of Deposits.

Affected Public: All FDIC-insured institutions, including insured U.S. branches of foreign banks.

Burden Estimate:

| Type of burden | Estimated number of respondents | Estimated time per response | Frequency of response | Total annual estimated burden (hours)
Summary of Deposits | Reporting | 4,800 | 3 | On Occasion | 14,400

General Description of Collection: The Summary of Deposits (SOD) is the annual survey of branch office deposits as of June 30 for all FDIC-insured institutions, including insured U.S. branches of foreign banks. All FDIC‐insured institutions that operate a main office and one or more branch locations (including limited service drive‐thru locations) as of June 30 each year are required to file the SOD Survey. Insured branches of foreign banks are also required to file. All data collected on the SOD submission are available to the public. The survey data provides a basis for measuring the competitive impact of bank mergers and has additional use in research on banking.

3. Title: Procedures for Monitoring Bank Secrecy Act Compliance.

OMB Number: 3064-0087.

Form Number: None.

Affected Public: Insured State Nonmember Banks and Savings Associations.

Burden Estimate:

| Type of burden | Estimated number of respondents | Estimated time per response | Frequency of response | Total annual estimated burden (hours)
Small Institutions | Recordkeeping | 3,054 | 35 | On Occasion | 106,890
Medium Institutions | Recordkeeping | 748 | 250 | On Occasion | 187,000
Large Institutions | Recordkeeping | 31 | 450 | On Occasion | 13,950
Total Estimated Burden |  | 3,833 |  |  | 307,840

General Description of Collection: Respondents must establish and maintain procedures designed to monitor and ensure their compliance with the requirements of the Bank Secrecy Act and the implementing regulations promulgated by the Department of Treasury at 31 CFR part 103. Respondents must also provide training for appropriate personnel.

4. Title: Forms Relating to Processing Deposit Insurance Claims.

OMB Number: 3064-0143.

Form Number: 7200/04—Declaration for Government Deposit; 7200/05—Declaration for Revocable Trust; 7200/06—Declaration of Independent Activity; 7200/07—Declaration of Independent Activity for Unincorporated Association; 7200/08—Declaration for Joint Ownership Deposit; 7200/09—Declaration for Testamentary Deposit; 7200/10—Declaration for Defined Contribution Plan; 7200/11—Declaration for IRA/KEOGH Deposit; 7200/12—Declaration for Defined Benefit Plan; 7200/13—Declaration of Custodian Deposit; 7200/14—Declaration or Health and Welfare Plan; 7200/15—Declaration for Plan and Trust; 7200/18—Declaration for Irrevocable Trust; 7200/24—Claimant Verification; 7200/26—Depositor Interview Form.

Affected Public: Any person who has a deposit account relationship with an insured depository institution that has failed and from whom more information is needed to complete the deposit insurance determination.

Burden Estimate:

| Type of burden | Estimated number of respondents | Estimated time per response (hours) | Frequency of response | Total annual estimated burden (hours)
Combined Deposit Brokers and Individuals:
7200/04—Declaration for Government Deposit | Reporting | 14 | .5 | On Occasion | 7
7200/05—Declaration for Revocable Trust | Reporting | 165 | .5 | On Occasion | 83
7200/06—Declaration of Independent Activity | Reporting | 0 | .5 | On Occasion | 0
7200/07—Declaration of Independent Activity for Unincorporated Association | Reporting | 0 | .5 | On Occasion | 0
7200/08—Declaration for Joint Ownership Deposit | Reporting | 0 | .5 | On Occasion | 0
7200/09—Declaration for Testamentary Deposit | Reporting | 21 | .5 | On Occasion | 11
7200/10—Declaration for Defined Contribution Plan | Reporting | 0 | 1 | On Occasion | 0
7200/11—Declaration for IRA/KEOGH Deposit | Reporting | 0 | .5 | On Occasion | 0
7200/12—Declaration for Defined Benefit Plan | Reporting | 0 | 1 | On Occasion | 0
7200/13—Declaration of Custodian Deposit | Reporting | 0 | .5 | On Occasion | 0
7200/14—Declaration or Health and Welfare Plan | Reporting | 12 | 1 | On Occasion | 12
7200/15—Declaration for Plan and Trust | Reporting | 0 | .5 | On Occasion | 0
7200/18—Declaration for Irrevocable Trust | Reporting | 0 | .5 | On Occasion | 0
7200/24—Claimant Verification | Reporting | 218 | .5 | On Occasion | 109
7200/26—Depositor Interview Form | Reporting | 198 | .5 | On Occasion | 99
Subtotal: Combined Brokers and Individuals |  | 628 |  |  | 320
Deposit Brokers Only:
Deposit Broker Submission Checklist | Reporting | 136 | .08 | On Occasion | 11.33
Diskette, following “Broker Input File Requirements”—burden will vary depending on the broker's number of brokered accounts | Reporting | 102 | .8 | On Occasion | 76.5
| Reporting | 34 | 5 | On Occasion | 170
Exhibit B, the standard agency agreement, or the non-standard agency agreement | Reporting | 136 | .02 | On Occasion | 2.27
Subtotal: Deposit Brokers Only |  | 136 |  |  | 260.10
Total Hourly Burden |  | 764 |  |  | 580.10

General Description of Collection: The collection involves forms used by the FDIC to obtain information from depositors and deposit brokers necessary to supplement the records of failed insured depository institutions to make determinations regarding deposit insurance coverage. The information provided enables the FDIC to identify the actual owners of an account, each owner's interest in the account, and the right and capacity in which the deposit is insured.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Dated at Washington, DC, this 3rd day of February 2017.
Federal Deposit Insurance Corporation.
Valerie J. Best,
Assistant Executive Secretary.

[FR Doc. 2017-02634 Filed 2-8-17; 8:45 am]

BILLING CODE 6714-01-P